NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: Grant and Cooperative Agreement Provisions.

3. The form number if applicable: N/A.

4. How often the collection is required: On occasion, one-time.

5. Who will be required or asked to report: Grantees and Cooperators.

6. An estimate of the number of annual responses: 148.

7. The estimated number of annual respondents: 60.

8. An estimate of the total number of hours needed annually to complete the requirement or request: 1,160 hours [1,055 for reporting (17.58 hours per response) and 105 for recordkeeping (.57 hours per recordkeeper)].

9. An indication of whether Section 3507(d), Pub. L. 104-13 applies: N/A.

10. Abstract: The Division of Contracts uses provisions, required to obtain or retain a benefit in its awards and cooperative agreements to ensure: Adherence to Public Laws, that the Government's rights are protected, that work proceeds on schedule, and that disputes between the Government and the recipient are settled.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by July 22, 2005. Comments received after this date will be considered if it is practical to do so, but assurance of consideration cannot be given to comments received after this date. John A. Asalone, Office of Information and Regulatory Affairs (3150-0107), NEOB-10202, Office of Management and Budget, Washington, DC 20503.

Comments can also be e-mailed to John A. Asalone@omb.eop.gov or submitted by telephone at (202) 395-4650.

The NRC Clearance Officer is Brenda Jo. Shelton, 301-415-7233.

Dated at Rockville, Maryland, this 15th day of June, 2005.
For the Nuclear Regulatory Commission.
Brenda Jo. Shelton,
NRC Clearance Officer, Office of Information Services.

[FR Doc. E5-3224 Filed 6-21-05; 8:45 am]

BILLING CODE 7590-01-P